SMALL BUSINESS ADMINISTRATION

[Declaration of Disaster #3408]

State of West Virginia

As a result of the President's major disaster declaration on May 5, 2002, I find that McDowell, Mercer, Mingo and Wyoming Counties in the State of West Virginia constitute a disaster area due to damages caused by severe storms, flooding and landslides occurring on May 2, 2002 and continuing. Applications for loans for physical damage as a result of this disaster may be filed until the close of business on July 4, 2002 and for economic injury until the close of business on February 5, 2003 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Boone, Lincoln, Logan, Raleigh, Summers and Wayne Counties in the State of West Virginia; Martin and Pike Counties in the State of Kentucky; and Bland, Buchanan, Giles and Tazewell Counties in the Commonwealth of Virginia.

The interest rates are:

1Percent
For Physical Damage:
Homeowners with credit available elsewhere | 6.750
Homeowners without credit available elsewhere | 3.375
Businesses with credit available elsewhere | 7.000
Businesses and non-profit organizations without credit available elsewhere | 3.500
Others (Including non-profit organizations) with credit available elsewhere | 6.375
For Economic Injury:
Businesses and small agricultural cooperatives without credit available elsewhere | 3.500

The number assigned to this disaster for physical damage is 340811. For economic injury the number is 9P3900 for West Virginia; 9P4000 for Kentucky; and 9P4100 for Virginia.

(Catalog of Federal Domestic Assistance Program Nos. 59002 and 59008)

Dated: May 6, 2002.
Herbert L. Mitchell,
Associate Administrator, For Disaster Assistance.

[FR Doc. 02-11790 Filed 5-10-02; 8:45 am]

BILLING CODE 8025-01-P